DEPARTMENT OF COMMERCE

Foreign-Trade Zones Board

[Order No. 1973]

Reorganization of Foreign-Trade Zone 263 Under Alternative Site Framework Lewiston-Auburn, Maine

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Lewiston-Auburn Economic Growth Council, grantee of FTZ 263, submitted an application to the Board (FTZ Docket B-64-2014, docketed 09-11-2014) for authority to reorganize under the ASF with a service area of the Counties of Androscoggin, Cumberland, and Sagadahoc, Maine, within and adjacent to the Portland Customs and Border Protection port of entry, and FTZ 263's existing Sites 1 and 2 would be categorized as magnet sites;

Whereas, notice inviting public comment was given in the Federal Register (79 FR 56057, 09-18-2014) and the application has been processed pursuant to the FTZ Act and the Board's regulations; and,

Whereas, the Board adopts the findings and recommendations of the examiner's report, and finds that the requirements of the FTZ Act and the Board's regulations are satisfied;

Now, therefore, the Board hereby orders:

The application to reorganize FTZ 263 under the ASF is approved, subject to the FTZ Act and the Board's regulations, including Section 400.13, to the Board's standard 2,000-acre activation limit for the zone, and to an ASF sunset provision for magnet sites that would terminate authority for Site 2 if not activated within five years from the month of approval.

Signed at Washington, DC, this 9th day of April 2015.
Ronald K. Lorentzen,
Acting Assistant Secretary of Commerce for Enforcement and Compliance, Alternate Chairman, Foreign-Trade Zones Board.

[FR Doc. 2015-08764 Filed 4-15-15; 8:45 am]

BILLING CODE 3510-DS-P